DEPARTMENT OF HOMELAND SECURITY

Coast Guard

33 CFR Part 165

[Docket No. USCG-2022-0427]

Safety Zone; Marine Events Within the Eighth Coast Guard District; Lower Mississippi River; New Orleans, LA

AGENCY: Coast Guard, DHS.

ACTION: Notification of enforcement of regulation.

SUMMARY: The Coast Guard will enforce a temporary safety zone for the St. John the Baptist Independence Day Fireworks located on the navigable waters of the Lower Mississippi River between mile marker (MM) 137.5 and MM 138.5 in vicinity of Reserve, Louisiana. This action is needed to provide for the safety of life on these navigable waterways during the event. During the enforcement periods, the operator of any vessel in the regulated area must comply with directions from the Captain of the Port or designated representative.

DATES: The regulations in 33 Code of Federal Regulations, Part 165.801, Table 5, line 2 will be enforced from 8:30 p.m. though 9:30 p.m. on July 1, 2022.

FOR FURTHER INFORMATION CONTACT: If you have questions about this notification of enforcement, call or email Lieutenant Commander William Stewart, Sector New Orleans, U.S. Coast Guard; telephone 504-365-2246, email William.A.Stewart@uscg.mil.

SUPPLEMENTARY INFORMATION: The Coast Guard will enforce a temporary safety zone in 33 CFR 165.801, Table 5, line 2 for the St. John the Baptist Independence Day Celebration event. This regulation will be enforced from 8:30 p.m. through 9:30 p.m. on July 1, 2022. This action is being taken to provide for the safety of life on navigable waterways during this event. Our regulations for marine events within the Eighth Coast Guard District, 33 CFR 165.801, specifies the location of the regulated area on the Mississippi River between mile marker (MM) 137.5 and MM 138.5 on the Lower Mississippi River near Reserve, Louisiana. During the enforcement period, if you are the operator of a vessel in the regulated area, you must comply with directions from the Captain of the Port or a designated representative.

In addition to this notice of enforcement in the Federal Register, the Coast Guard plans to provide notification of this enforcement period via a Marine Safety Information Bulletin and/or Broadcast Notice to Mariners.

Dated: June 23, 2022.
K.K. Denning,
Captain, U.S. Coast Guard, Captain of the Port Sector New Orleans.

[FR Doc. 2022-13871 Filed 6-28-22; 8:45 am]

BILLING CODE 9110-04-P